ENVIRONMENTAL PROTECTION AGENCY

[FRL OP-OFA-104]

Environmental Impact Statements; Notice of Availability

Responsible Agency: Office of Federal Activities, General Information 202-564-5632 or https://www.epa.gov/nepa.

Weekly receipt of Environmental Impact Statements (EIS)

Filed December 22, 2023 10 a.m. EST Through December 29, 2023 10 a.m. EST

Pursuant to 40 CFR 1506.9.

Notice

Section 309(a) of the Clean Air Act requires that EPA make public its comments on EISs issued by other Federal agencies. EPA's comment letters on EISs are available at: https://cdxapps.epa.gov/cdx-enepa-II/public/action/eis/search.

EIS No. 20240000, Draft, NRC, MD, Site-Specific Environmental Impact Statement for License Renewal of Nuclear Plants Supplement 7a, Second Renewal Regarding Subsequent License Renewal for North Anna Power Station Units 1 and 2, Comment Period Ends: 02/20/2024, Contact: Tam Tran 301-415-3617.

Dated: December 30, 2023.
Julie Smith,
Acting Director, NEPA Compliance Division, Office of Federal Activities.

[FR Doc. 2024-00027 Filed 1-4-24; 8:45 am]

BILLING CODE 6560-50-P